DEPARTMENT OF STATE

[Public Notice: 9827]

Notice of Public Meeting

The Department of State will conduct an open meeting at 9:30 a.m. on Tuesday January 24, 2017, in room 4R14-18 of the Douglas A. Munro Coast Guard Headquarters Building at St. Elizabeth's, 2703 Martin Luther King Jr. Avenue SE., Washington, DC 20593. The primary purpose of the meeting is to prepare for the fourth session of the International Maritime Organization's (IMO) Sub-Committee on Human Element, Training and Watchkeeping (HTW) to be held at the IMO Headquarters, United Kingdom, January 30-February 3, 2017.

The agenda items to be considered include:

• Decisions of other IMO bodies

• Validated model training courses

• Reports on unlawful practices associated with certificates of competency

• Guidance for the implementation of the 2010 Manila Amendments

• Comprehensive review of the 1995 STCW-F Convention

• Role of the human element

• Revision of the Guidelines on Fatigue

• Draft Modernization Plan of the GMDSS

• Amendments to the IGF Code and development of guidelines for low-flashpoint fuels

• Revision of requirements for escape route signs and equipment location markings in SOLAS and related instruments

• Revised SOLAS regulation II-1/3-8 and associated guidelines (MSC.1/Circ.1175) and new guidelines for safe mooring operations for all ships

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Mr. E.J. Terminella, by email at Emanuel.J.TerminellaJr@uscg.mil, by phone at (202) 372-1239, or in writing at 2703 Martin Luther King Jr. Ave. SE., Stop 7509, Washington DC 20593-7509 not later than January 17, 2017. Requests made after January 17, 2017 might not be able to be accommodated. Please note that due to security considerations, two valid, government issued photo identifications must be presented to gain entrance to the Coast Guard Headquarters Building. The Coast Guard Headquarters Building is accessible by taxi, public transportation, and privately owned conveyance (upon request). In the case of inclement weather where the Federal Government is closed or delayed, a public meeting may be conducted virtually by calling (202) 475-4000, Participant code: 887 809 72. The meeting coordinator will confirm whether the virtual public meeting will be utilized by posting an announcement at: www.uscg.mil/imo. Members of the public can find out whether the Federal Government is delayed or closed by visiting www.opm.gov/status/.

Additional information regarding this and other IMO public meetings may be found at: www.uscg.mil/imo.

Jonathan W. Burby,
Coast Guard Liaison Officer, Office of Ocean and Polar Affairs, Department of State.

[FR Doc. 2016-31056 Filed 12-23-16; 8:45 am]

BILLING CODE 4710-09-P